DEPARTMENT OF DEFENSE

Office of the Secretary

Sunshine Act Meeting; Independent Review Group To Report on Rehabilitative Care and Administrative Processes at Walter Reed Army Medical Center and National Naval Medical Center

AGENCY: Office of the Assistant Secretary of Defense (Health Affairs); DoD.

ACTION: Notice of meeting.

SUMMARY: Pursuant to the Federal Advisory Committee Act of 1972 (5 U.S.C., Appendix as amended ), the Sunshine in the Government Act of 1976 (5 U.S.C. 552b, as amended), and 41 CFR 102-3.150, the following meeting notice is announced.

Name of Committee: Independent Review Group To Report on Rehabilitative Care and Administrative Processes at Walter Reed Army Medical Center and National Naval Medical Center—a subcommittee of the Defense Health Board (DHB).

Dates: March 13, 2007 (Open Session). March 14, 2007 (Open Session).

Times: 13:30 p.m.-15 p.m. (March 13, 2007). 13:30 p.m.-15 p.m. (March 14, 2007).

Location: Joel Auditorium, Building 1, Walter Reed Army Medical Center, 16th Street, Washington, DC 20307 (March 13, 2007) and Clark Auditorium, Building 10, National Naval Medical Center, 8901 Rockville Pike, Wisconsin Avenue, Bethesda, MD 20889 (March 14, 2007).

Purpose of the Meeting: The purpose of the meeting is to discuss the mechanisms the Independent Review Group to Report on Rehabilitative Care and Administrative Processes at Walter Reed Army Medical Center and National Naval Medical Center (hereafter referred to as the “Independent Review Group”) is using and will use to identify critical shortcomings in and opportunities to improve rehabilitative care, administrative processes, and quality of life for injured and sick members of the Armed Forces at the Walter Reed Army Medical Center (SRAMC) and the National Naval Medical Center (NNMC)—in order to make recommendations for corrective actions. This meeting is intended as one of these mechanisms as interested individuals and groups will be given an opportunity to provide relevant input directly to the Independent Review Group.

Agenda: The Honorable John O. Marsh (Co-chair) will open both sessions and present a short summary of mechanisms the Independent Review Group is using and will use to identify shortcomings and opportunities for improvement. After comments from group members, members of the public invited to make oral presentations (in accordance with procedures described in this notice) will be given an opportunity to orally provide relevant information. The Honorable Togo West (Co-chair) will close each session, reviewing mechanisms members of the public may use to provide additional information to the Independent Review Group.

Members of the public wishing to provide input to the Independent Review Group at either open sessions should submit written statements in accordance with 41 CFR 102-3.140(C), section 10(a)(3) of the Federal Advisory Committee Act, and the procedures described in this notice. Written statements should be no longer than two type-written pages and must address the following detail: The issue, discussion, and a recommended course of action. Supporting documentation may be included as needed to establish the appropriate historical context and to provide any necessary background information.

Individuals submitting written statements must submit their statements to the Defense Health Board's Designated Federal Officer at the address detailed below and should provide a fax copy directly to the Independent Review Group Staff Director at 703-602-6989. If a written statement is not received at least 1 calendar day prior to the sessions which are the subject of this notice, then it may not be possible to arrange for an opportunity to present at one of the sessions. Regardless of whether a written statement leads to oral presentation at one of the sessions, it will still be provided to the members of the Independent Review Group for their review.

The Designated Federal Officer will review all timely submissions with the Independent Review Group Co-Chairs and ensure they are provided to members of the Independent Review Group before the sessions that are subject to this notice. After reviewing the written statements, the Chairperson and the Designated Federal Officer may choose to invite those who submit statement to orally present their issues during the sessions.

The Designated Federal Officer, in consultation with the Independent Review Group Co-Chairs, may, if desired, allot a specific amount of time for members of the public to orally present their issues for review and discussion by the members of the Independent Review Group.

On March 1, 2007 the members of the Independent Review Group had an administrative working meeting to discuss administrative matters pertaining to the Independent Review Group, and to receive administrative information from the Department of Defense. During the meeting the members of the Independent Review Group indicated that they wanted to hold a public meeting at the earliest opportunity, and the earliest that a meeting could be scheduled was March 13-14, 2007. Since these dates are within the 15-calendar day notification window, the Committee Management Officer for the Department of Defense, pursuant to 41 CFR 102-3,150(b), grants the Independent Review Group a waiver to the 15-calendar day notification requirement.

FOR FURTHER INFORMATION CONTACT: Colonel Roger L. Gibson, Executive Secretary, Defense Health Board, Five Skyline Place, 5111 Leesburg Pike, Room 810, Falls Church, Virginia 22041-3206, (703) 681-3279, Ext. 123, (roger.gibson@ha.osd.mil)

Editorial note: This document was received at the Office of the Federal Register March 7, 2007.

Dated: March 6, 2005.
L.M. Bynum,
Alternate OSD Federal Register Liaison Officer, Department of Defense.

[FR Doc. 07-1140 Filed 3-7-07; 1:08 pm]

BILLING CODE 5001-06-M